DEPARTMENT OF JUSTICE

Bureau of Justice Statistics

[OJP(BJS)-1272]

Profiles of Criminal Justice Systems in Selected Countries

AGENCY: Office of Justice Programs, Bureau of Justice Statistics, Justice.

ACTION: Notice of solicitation.

SUMMARY: The purpose of this notice is to announce a solicitation for the preparation of criminal justice system profiles for five countries in Latin America, to be added to BJS's World Factbook of Criminal Justice Systems.

DATES: Proposals must be received by 5 p.m. EST on July 24, 2000.

ADDRESSES: Proposals should be mailed to Lea S. Gifford, Statistician, Bureau of Justice Statistics, 810 Seventh Street NW, Washington, D.C. 20531; Phone: (202) 307-0765 [This is not a toll-free number].

FOR FURTHER INFORMATION CONTACT: Lea S. Gifford, Statistician, Bureau of Justice Statistics, 810 Seventh Street NW, Washington, D.C. 20531; Phone: (202) 307-0765 [This is not a toll-free number].

SUPPLEMENTARY INFORMATION:

Statutory Authority

The grant awarded through this solicitation will be funded by the Bureau of Justice Statistics consistent with its mandate under 42 U.S.C. 3732(c).

Program Goals

The purpose of this award is to support the development of descriptive criminal justice system profiles of individual countries written in English, designed to facilitate comparisons between the United States and the other Latin American countries profiled. These profiles will serve as a resource for program and policy development in Latin America, for researchers engaged in cross-country analysis, and for those examining the relationship between differing systems of justice and cross-national crime.

Background

In the early 1990s, the Bureau of Justice Statistics funded a project entitled the World Factbook of Criminal Justice Systems. When the Factbook was first compiled, it consisted of articles on 42 countries, each written to a common template by someone fluent in the language of, and having detailed knowledge of, that country. These profiles are available on the BJS website at http://www.ojp.usdoj.gov/bjs/abstract/wfcj.htm. This project was undertaken to improve the availability and comparability of descriptions of the criminal justice systems in various countries. Such descriptions are necessary to enable the appropriate collection and accurate analysis of crime and justice data from these countries, as well as to inform researchers and officials who plan to work with such countries with regard to their criminal justice operations.

Scope of Work

The objectives of the proposed project are to expand the World Factbook template for maximum utility, update the pre-existing profile of the criminal justice system in Costa Rica accordingly, and to create criminal justice system profiles for four additional Latin American countries based on the revised template. Applicants should familiarize themselves with the current template which appears at www.ojp.usdoj.gov/bjs/pub/ascii/wfbcjint.txt and should carefully read the entire introduction as well as one or two of the profiles.

Phase One of the project will consist of collaborating with BJS and other interested parties in order to revise the template, so that resulting profiles will include all the information that a researcher or visitor would reasonably need to know to accurately analyze and understand crime and justice data. The grantee will then update the profile of Costa Rica according to the revised template. Upon completion of this task to BJS” satisfaction, the grantee will proceed to Phase Two.

Phase Two will consist of preparing new criminal justice system profiles for four Latin American countries (other than Costa Rica).

Preparation of the country profiles will require significant contact with persons at all stages of the criminal justice system within each country. It is strongly suggested, but not required, that the applicant collaborate with a local criminal justice researcher in each profiled country. The grantee is encouraged to propose which four Latin American countries will be profiled; however BJS will make the final selection by considering the following factors: (1) Representation of the diversity of criminal justice systems in Latin America (Central America, Mexico, South America), (2) recent systemic changes that have policy relevance and merit documentation, (3) availability of reliable contacts and statistical data, and (4) importance as a source of transnational crime.

Statistical material for each country will be the latest available official data from the country. Sources and contacts made for each country will be carefully documented. The profiles should include descriptions of how statistics are collected and maintained in each country and how the public can access them. The profiles should incorporate important information from and/or reference similar country profiles, such as those provided by the CIA and the Library of Congress, and any country-specific sources of crime or criminal justice data.

Products

The grantee will deliver to BJS Web-ready electronic versions of the template and all five country profiles on diskette in text file format. These files will be posted on the BJS Website and may be used for subsequent publications.

Application and Award Process

An original and three (3) copies of a full proposal must be submitted with a Standard Form 424, Application for Federal Assistance, Budget Detail Worksheet, OJP Forms 4000/3, and 4061/6. These forms can be obtain online www.ojp.usdoj.gov/forms.htm. In addition, fund recipients are required to comply with regulations designed to protect human subjects and ensure confidentiality of data. In accordance with 28 CFR Part 22, a Privacy Certificate must be submitted to BJS. Furthermore a Screening Sheet for Protection of Human Subjects must be completed prior to the award being issued. Questions regarding Protection of Human Subjects and/or privacy certificate requirements can be directed to the Human Subject Projection Officer (HPSO) at (202) 616-3282 [This is not a toll-free number].

Proposals must include both narrative description and a detailed budget. The narrative shall describe activities as discussed in the previous section. The budget shall contain detailed costs of personnel, travel, equipment, supplies and other expenses. The grant award will be in the form of a copperative agreement. It is anticipated that the entire project can be completed for less than $30,000.

Timing

This award will be made for a period of 12 months. The first phase will be concluded and evaluated within two months. The second phase will commence upon the successful completion of the first phase and will be completed within 12 months of the award date.

Eligibility Requirements

Applicants must be reasonably proficient in the Spanish language. If applicants contemplate preparing each profile themselves, they need to have demonstrated fluency in speaking, reading, and writing both Spanish and English. Applicants should have a background in criminal justice. Knowledge of Latin American organizations and governmental structures, including political events which might influence the criminal justice system, and contacts with individuals in these countries will be extremely beneficial. Familiarity with Latin America through travel, residence, and/or study is highly desirable.

BJS will evaluate proposals based on (1) the credentials of the applicant (how experienced the applicant is in work related to criminal justice in Latin America), (2) the merit of the proposal (how the applicant intends to satisfy the needs described in this announcement), and (3) the competitiveness of the proposed budget.

Jan M. Chaiken,
Director, Bureau of Justice Statistics.

[FR Doc. 00-14486 Filed 6-8-00; 8:45 am]

BILLING CODE 4410-18-P